SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995, 44 U.S.C Chapter 35 requires federal agencies to publish a notice in the Federal Register concerning each proposed collection of information before submission to OMB, and to allow 60 days for public comment in response to the notice. This notice complies with that requirement.

DATES: Submit comments on or before December 21, 2015.

ADDRESSES: Send all comments to Barbara Brannan, Management Analyst, Office of Surety Guarantee, Small Business Administration, 409 3rd Street SW., Washington, DC 20416.

FOR FURTHER INFORMATION CONTACT: Barbara Brannan, Management Analyst, Office of Surety Guarantee, Barbara.brannan@sba.gov 202-205-6545, or Curtis B. Rich, Management Analyst, 202-205-7030, curtis.rich@sba.gov.

SUPPLEMENTARY INFORMATION: The Small Business Administration's (SBA) Surety Bond Guarantees (SBG) Program was created to encourage surety companies to issue bonds for small contractors. The information collected on these forms is used to evaluate the eligibility of applicants for the program. Changes are being made to SBA Form 990, Surety Bond Guarantee Agreement, SBA Form 991, Surety Bond Guarantee Agreement Addendum, SBA Form 994, Application for Surety Bond Guarantee Assistance, SBA Form 994B, Surety Bond Guarantee Underwriting Review, SBA Form 994F, Schedule of Work in Process, and SBA Form 994H, Default Report, Claim for Reimbursement & Records of Administrative Action.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Title: Surety Bond Guarantees Assistance.

Description of Respondents: Surety Companies.

Form Number: SBA Forms 990, 991, 994, 994B, 994F, 994H.

Total Estimated Annual Responses: 650.

Total Estimated Annual Hour Burden: 1,658.

Curtis B. Rich,
Management Analyst .

[FR Doc. 2015-26663 Filed 10-20-15; 8:45 am]

BILLING CODE 8025-01-P